DEPARTMENT OF HEALTH AND HUMAN SERVICES

National Institutes of Health

Submission for OMB Review; 30-Day Comment Request; Generic Clearance for Application Information for Fellowships, Internships, Training Programs, and Specialty Positions, National Cancer Institute (NCI)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Vivian Horovitch-Kelley, Program Analyst, Office of Management Policy and Compliance, National Cancer Institute, 9609 Medical Center Drive, Room 2W444, Bethesda, Maryland 20892 or call non-toll-free number (240) 276-6850 or Email your request, including your address to: vivian.horovitch-kelley@mail.nih.gov.

SUPPLEMENTARY INFORMATION: This proposed information collection was previously published in the Federal Register on March 29 (Vol. 84, No. 61, Page 11987) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Generic Clearance for Application Information from Fellows, Interns, and Trainees, 0925-XXXX, Exp., Date XX/XXXX, NEW, National Cancer Institute (NCI), National Institutes of Health (NIH).

Need and Use of Information Collection: This is a new generic information collection request to support the science and research in a multidisciplinary environment at the National Cancer Institute (NCI), a part of the National Institutes of Health. Applicants may possess a variety of degrees including, but not limited to, high school, post-baccalaureate, graduate, postdoctoral, Registered Nurse, and Doctor of Medicine (MD). Potential applicants may apply for cancer-related positions by submitting applications, resumes, curriculum vitae (CV), reference letters, letters of intent and interest, and other related documentation directly to the Divisions, Offices, and Centers. This information is necessary to evaluate the eligibility, merits, and quality of potential candidates and will also assist in matching potential candidates to various training and internship programs, and specialty positions. The information is for internal use to make decisions about candidates invited to visit and attend NCI fellowships, internships, training opportunities, and apply for specialized staff and faculty positions.

OMB approval is requested for 3 years. There are no costs to respondents other than their time. The total estimated annualized burden is 15,000 hours.

Estimated Annualized Burden Hours
Type of respondent | Number of respondents | Number of responses per respondent | Average time per response (in hours) | Total annual burden hours
Individuals (Applicants) | 6,000 | 1 | 60/60 | 6,000
Individuals (Professional References) | 18,000 | 1 | 30/60 | 9,000
Totals | 24,000 | 24,000 |  | 15,000

Patricia M. Busche,
Project Clearance Liaison, National Cancer Institute, National Institutes of Health.

[FR Doc. 2019-11461 Filed 5-31-19; 8:45 am]

BILLING CODE 4140-01-P